DEPARTMENT OF HEALTH AND HUMAN SERVICES

Centers for Disease Control and Prevention

[Program Announcement 01120]

Public Health Preparedness for the 2002 Winter Olympic Games; Notice of Availability of Funds

A. Purpose

The Centers for Disease Control and Prevention (CDC) announces the availability of fiscal year (FY) 2001 funds for a grant program for Public Health Preparedness for the 2002 Winter Olympic Games. This program addresses the “Healthy People 2010” focus areas of Environmental Health and Public Health Infrastructure. The purpose of the program is to prepare the public health system in the areas of the safety of food, air, water, waste handling, disease surveillance and outbreak response, and emergency medical services coordination in response to the 2002 Winter Olympic Games to be held in Utah.

B. Eligible Applicant

Assistance will be provided only to the Utah Department of Health. No other applications are solicited. Eligibility is limited to the Utah Department of Health to prepare the State's public health system for the 2002 Winter Olympic Games.

Note: Title 2 United States Code, section 1611 states that an organization described in section 501(c)(4) of the Internal Revenue Code that engages in lobbying activities is not eligible to receive Federal funds constituting an award, grant, or loan.

C.. Availability of Funds

Approximately $250,000 is available in FY 2001 to fund this award. It is expected that the award will begin on or about September 30, 2001, and will be made for a one-year project period. Funding estimates may change.

D. Where to Obtain Additional Information

To obtain business management technical assistance, contact: Sharron P. Orum, Lead Grants Management Specialist, Grants Management Branch Procurement and Grants Office, Centers for Disease Control and Prevention, 2920 Brandywine Road, Room 3000, Atlanta, GA 30341-4146, Telephone number: (770) 488-2716, E-mail address: spo2@cdc.gov.

For program technical assistance, contact: Edwin Kent Gray, Chief, Emergency Preparedness and Response Branch, National Center for Environmental Health, Centers for Disease Control and Prevention 4770 Buford Highway, Mailstop F38, Atlanta, GA 30341 Telephone number: (770) 488-7100, Email address: keg1@cdc.gov.

Dated: June 19, 2001.
John L. Williams,
Director, Procurement and Grants Office, Centers for Disease Control and Prevention (CDC).

[FR Doc. 01-15823 Filed 6-22-01; 8:45 am]

BILLING CODE 4163-18-P